SECURITIES AND EXCHANGE COMMISSION

[Release No. IC-24429]

Notice of Applications for Deregistration Under Section 8(f) of the Investment Company Act of 1940

April 28, 2000.

The following is a notice of applications for deregistration under section 8(f) of the Investment Company Act of 1940 for the month of April 2000. A copy of each application may be obtained for a fee at the SEC's Public Reference Branch, 450 Fifth St., N.W., Washington, DC 20549-0102 (tel. 202-942-8090). An order granting each application will be issued unless the SEC orders a hearing. Interested persons may request a hearing on any application by writing to a SEC's Secretary at the address below and serving the relevant applicant with a copy of the request, personally or by mail. Hearing requests should be received by the SEC by 5:30 p.m. on May 23, 2000, and should be accompanied by proof of service on the applicant, in the form of an affidavit or, for lawyers, a certificate of service. Hearing requests should state the nature of the writer's interest, the reason for the request, and the issues contested. Persons who wish to be notified of a hearing may request notification by writing to the Secretary, SEC, 450 Fifth Street, N.W., Washington, DC 20549-0609. For Further Information Contact: Diane L. Titus, at (202) 942-0564, SEC, Division of Investment Management, Office of Investment Company Regulation, 450 Fifth Street, N.W., Washington, DC 20549-0506.

Select Advisors Trust C [File No. 811-8404]

Summary: Applicant seeks an order declaring that is has ceased to be an investment company. On December 31, 1998, each series of applicant transferred its assets to Touchstone Series Trust (formerly known as Select Advisors Trust A) based on net asset value. Expenses of approximately $218,560 incurred in connection with the reorganization were paid by Touchstone Advisors, Inc., applicant's investment adviser.

Filing Date: The application was filed on February 7, 2000.

Applicant's Address: 311 Pike Street, Cincinnati, Ohio 45202.

Heritage U.S. Government Income Fund [File No. 811-7980]

Summary: Applicant seeks an order declaring that is has ceased to be an investment company. On October 15, 1999, applicant transferred its assets to Intermediate Government Fund, a series of Heritage Income Trust, based on net asset value. Expenses of $61,500 incurred in connection with the reorganization were paid by applicant's investment adviser, Heritage Asset Management, Inc.

Filing Date: The application was filed on April 7, 2000.

Applicant's Address: 800 Carillon Parkway, St. Petersburg, Florida 33716.

The Planters Funds—Tennessee Tax-Free Bond Fund [File No. 811-7065]

Summary: Applicant seeks an order declaring that is has ceased to be an investment company. By December 28, 1999, all shareholders of applicant had redeemed their shares at net asset value. No expenses were incurred in connection with applicant's liquidation.

Filing Dates: The application was filed on February 17, 2000, and amended on April 13, 2000.

Applicant's Address: 5800 Corporate Drive, Pittsburgh, Pennsylvania 15237-7010.

The Rodney Square Tax-Exempt Fund [File No. 811-4372]

The Rodney Square Fund [File No. 811-3406]

The Rodney Square Strategic Equity Fund [File No. 811-4808]

The Rodney Square Strategic Fixed-Income Fund [File No. 811-4663]

The CRM Funds [File No. 811-9034]

Summary: Each applicant seeks an order declaring that it has ceased to be an investment company. On October 31, 1999, each applicant transferred its assets to WT Mutual Fund, based on net asset value. Approximate expenses of $12,400; $73,540; $13,418; $7,565; and $5,587, respectively, incurred in connection with the reorganizations were paid by each applicant. Wilmington Trust Company, applicants' investment adviser, has agreed to reimburse The Rodney Square Strategic Equity Fund and The Rodney Square Strategic Fixed-Income Fund for expenses in excess of their expense caps.

Filing Date: Each application was filed on April 7, 2000.

Applicants' Address: Each of The Rodney Square Funds: 1100 N. Market Street, Wilmington, Delaware 19890. The CRM Funds: 400 Bellevue Parkway, Wilmington, Delaware 19809.

Harris & Harris Group, Inc. [File No. 811-7074]

Summary: Applicant requests an order declaring that it ceased to be an investment company as of July 27, 1995, the date applicant elected to be regulated as a business development company.

Filing Date: The application was filed on March 29, 2000.

Applicant's Address: One Rockefeller Plaza, 14 West 49th Street, New York, New York 10020.

Life & Annuity Trust [File No. 811-8118]

Summary: Applicant seeks an order declaring that it has ceased to be an investment company. On August 5, 1999, the shareholders of applicant voted to approve the merger of applicant with another investment company. The name of the fund surviving the merger is Wells Fargo Variable Trust, and its Investment Company Act file number is 811-9255. Expenses of $144,638 were incurred in connection with the merger and were paid by Wells Fargo Bank, N.A., which has been the investment adviser to the fund for the past five years and is the investment adviser to the successor fund.

Filing Date: The application was filed on March 2, 2000.

Applicant's Address: 111 Center Street, Little Rock, Arkansas 72201.

For the Commission, by the Division of Investment Management, pursuant to delegated authority.
Jonathan G. Katz,
Secretary.

[FR Doc. 00-11225 Filed 5-4-00; 8:45 am]

BILLING CODE 8010-01-M